ENVIRONMENTAL PROTECTION AGENCY

[FRL—9981-72-Region 6]

Underground Injection Control Program; Hazardous Waste Injection Restrictions; Petition for Exemption—Class I Hazardous Waste Injection; Innophos, Inc. Geismar, Louisiana

AGENCY: Environmental Protection Agency (EPA).

ACTION: Notice of a final decision on a UIC no migration petition.

SUMMARY: Notice is hereby given that an exemption to the Land Disposal Restrictions, under the 1984 Hazardous and Solid Waste Amendments to the Resource Conservation and Recovery Act, has been granted to Innophos for two Class I hazardous waste injection wells located at their Geismar, Louisiana facility. The company has adequately demonstrated to the satisfaction of the EPA by the petition application and supporting documentation that, to a reasonable degree of certainty, there will be no migration of hazardous constituents from the injection zone for as long as the waste remains hazardous. This final decision allows the underground injection by Innophos of the specific restricted hazardous wastes identified in this exemption request, into Class I hazardous waste injection wells DW#1 and DW#2 until July 12, 2048, unless the EPA moves to terminate this exemption or other petition condition limitations are reached. Additional conditions included in this final decision may be reviewed by contacting the EPA Region 6 Ground Water/UIC Section. A public notice was issued May 24, 2018, and the public comment period closed on July 9, 2018, and no comments were received. This decision constitutes final Agency action and there is no Administrative appeal. This decision may be reviewed/appealed in compliance with the Administrative Procedure Act.

DATES: This action is effective as of July 12, 2018.

ADDRESSES: Copies of the petition and all pertinent information relating thereto are on file at the following location: Environmental Protection Agency, Region 6, Water Division, Safe Drinking Water Branch (6WQ-S), 1445 Ross Avenue, Dallas, Texas 75202-2733.

FOR FURTHER INFORMATION CONTACT: Philip Dellinger, Chief Ground Water/UIC Section, EPA—Region 6, telephone (214) 665-8324.

Dated: July 12, 2018.
Charles W. Maguire,
Director, Water Division.

[FR Doc. 2018-17195 Filed 8-9-18; 8:45 am]

BILLING CODE 6560-50-P